DEPARTMENT OF THE INTERIOR

Bureau of Land Management

[LLNVL0000 L51010000.FX0000 LVRWF09F1640 241A; N-82076; MO#4500014867; TAS:14X5017]

Notice of Availability of the Final Environmental Impact Statement for the One Nevada Transmission Line (ON Line Project) Nevada

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (EIS) for the One Nevada Transmission Line (ON Line Project) and by this notice is announcing its availability.

DATES: The BLM will not issue a final decision on the proposal for at least 30 days after the date that the Environmental Protection Agency publishes its notice of availability in the Federal Register.

ADDRESSES: A list of locations where the One Nevada Transmission Line (ON Line Project) Final EIS can be reviewed is in the SUPPLEMENTARY INFORMATION section below. The Final EIS is also available online at: http://www.blm.gov/nv/. Click on the Ely District map and then click on the ON Line Final EIS “In the Spotlight.”

FOR FURTHER INFORMATION CONTACT: Michael Dwyer at (702) 821-7102, e-mail: michael_dwyer@blm.gov.

SUPPLEMENTARY INFORMATION: The One Nevada Transmission Line (ON Line Project) Final EIS is available for review at the following locations:

—BLM Ely District Office, 702 North Industrial Way, Ely, Nevada

White Pine County Library, 950 Campton Street, Ely, Nevada

BLM Nevada State Office, 1340 Financial Blvd., Reno, Nevada

BLM Caliente Field Station, U.S. Highway 93, Caliente, Nevada

Caliente Branch Library, 100 Depot Avenue, Caliente, Nevada

BLM Southern Nevada District Office, 4701 North Torrey Pines, Las Vegas, Nevada

North Las Vegas Library, 2300 Civic Center Drive, North Las Vegas, Nevada

BLM Office of Public Affairs, Room 406-LS, 1620 L Street, Washington, DC

On March 30, 2009, the BLM received a right-of-way application and Plan of Development from NV Energy for a 236-mile-long 500 kilovolt (kV) transmission line and telecommunication facilities running generally from Ely to Las Vegas, Nevada; one new substation near Ely; a loop-in of an existing 345 kV transmission line at the new substation; an expansion of one existing substation on private land near Battle Mountain, Nevada; and appurtenant facilities and access roads. The project name is the One Nevada Transmission Line Project and is referred to as the “ON Line Project.”

The components of the ON Line Project had been part of the 2006 Ely Energy Center (EEC) proposal for a coal fired power-generating facility that included rail lines, transmission lines with fiber optic cable, new and expanded substations, water well-fields and pipeline delivery systems, and associated facilities to be located mostly on public lands in White Pine, Lincoln, Nye, Elko, and Clark counties, Nevada. On January 26, 2007, the BLM published a Notice of Intent to prepare an EIS for the EEC and its associated facilities and held public scoping meetings (see 72 FR 3871). On January 2, 2009, the BLM published a Notice of Availability initiating a 90-day public comment period on its Draft EIS (see 74 FR 115). In February 2009, during the public comment period, the proponent made public its intention to postpone the coal-fired power generation facilities associated with the EEC in its proposal until carbon capture technology becomes commercially feasible.

On July 29, 2009, the BLM published in the Federal Register a Notice of Intent to develop an EIS for the ON Line project and invited the public to submit scoping comments (see 74 FR 37728). An Draft EIS was developed for the following reasons: the ON Line proposed action was part of the EEC proposed action assessed in the EEC Draft EIS; removing the coal-fired power generation facilities from the application requires a change in the description of the purpose and need for the project; and the assessment of impacts in association with the power generation facilities in the Draft EIS are no longer applicable. The ON Line Draft EIS incorporated all appurtenant sections of the EEC Draft EIS along with new information such that it stands on its own. Applicable comments collected during the public comment period on the EEC Draft EIS were carried forward into the ON Line EIS process.

On November 20, 2009, the BLM published in the Federal Register a Notice of Availability for the Draft EIS for the ON Line project and initiated a 60-day public comment period (see 74 FR 60290). Public meetings on the Draft EIS were conducted in Las Vegas, Caliente, and Ely during December 2009. Nineteen comments were received and taken into consideration in the preparation of the Final EIS. Public comments identified potential conflicts with the Robinson Summit substation and resulted in an additional alternative site for the substation being added to the Final EIS.

The comments also identified the need to clarify several sections of the document.

Authority: 40 CFR 1506.6 and 1506.10.

Atanda Clark,
Acting Associate District Manager, Ely District.

[FR Doc. 2010-30307 Filed 12-2-10; 8:45 am]

BILLING CODE 4310-HC-P